FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 011284-075.

Title: Ocean Carrier Equipment Management Association Agreement.

Parties: Alianca Navegacao e Logistica Ltda.; APL Co. Pte Ltd.; American President Lines, Ltd.; A.P. Moller-Maersk A/S; CMA CGM, S.A.; Atlantic Container Line; China Shipping Container Lines Co., Ltd; China Shipping Container Lines (Hong Kong) Co., Ltd.; COSCO Container Lines Company Limited; Evergreen Line Joint Service Agreement; Hamburg-Süd; Hapag-Lloyd AG; Hapag-Lloyd USA LLC; Ltd.; Hyundai Merchant Marine Co. Ltd.; Kawasaki Kisen Kaisha, Ltd.; Mediterranean Shipping Company, S.A.; Mitsui O.S.K. Lines Ltd.; Nippon Yusen Kaisha Line; Orient Overseas Container Line Limited; Yang Ming Marine Transport Corp.; and Zim Integrated Shipping Services, Ltd.

Filing Party: Jeffrey F, Lawrence, Esq. and Donald J. Kassilke, Esq.; Cozen O'Connor; 1627 I Street NW., Suite 1100, Washington, DC 20006.

Synopsis: The amendment would add United Arab Shipping Co. as a party to the agreement and update the address of Hapag-Lloyd USA LLC. The parties have requested expedited review.

Agreement No.: 011814-006.

Title: HSDG/King Ocean Space Charter Agreement.

Parties: Hamburg Sud and King Ocean Services Limited, Inc.

Filing Party: Wayne Rohde, Esq.; Cozen O'Connor; 1200 19th Street NW., Washington, DC 20036.

Synopsis: The amendment revises provisions relating to the sub-chartering of space.

Agreement No.: 012235-002.

Title: Cool Carriers/Trans Global Shipping NV West Coast Agreement.

Parties: Cool Carriers AB and Trans Global Shipping N.V.

Filing Party: David F. Smith, Esq.; Cozen O'Connor; 1627 I Street NW., Suite 1100, Washington, DC 20006.

Synopsis: The amendment removes CSVV as a party to the agreement and makes related conforming changes.

Agreement No.: 012362-001.

Title: Hoegh/SC Line Space Charter Agreement.

Parties: Hoegh Autoliners AS and SC Line S.A.

Filing Party: Wayne Rohde, Esq.; Cozen O'Connor; 1200 19th Street NW., Washington, DC 20036.

Synopsis: The amendment adds Panama and Colombia to the geographic scope of the agreement and makes the agreement bi-directional. The amendment also changes the name of the agreement and restates the agreement.

Agreement No.: 012383.

Title: Hyundai Glovis/Eukor Space Charter Agreement.

Parties: Hyundai Glovis Co. Ltd and Eukor Car Carriers Inc.

Filing Party: Wayne R. Rohde, Esq.; Cozen O'Connor; 1200 Nineteenth Street NW., Washington, DC 20036.

Synopsis: The agreement authorizes Hyundai Glovis to charter space to Eukor from the U.S. East Coast to Nigeria.

Agreement No.: 012384.

Title: Hyundai Glovis/Hoegh Space Charter Agreement.

Parties: Hyundai Glovis Co. Ltd and Hoegh Autoliners AS.

Filing Party: Wayne R. Rohde, Esq.; Cozen O'Connor; 1200 Nineteenth Street NW., Washington, DC 20036.

Synopsis: The agreement authorizes Hoegh to charter space to Hyundai in the trade from Korea to the U.S. East Coast.

Agreement No.: 012385.

Title: K-Line/Liberty Global Logistics LLC Agreement.

Parties: Kawasaki Kisen Kaisha, Ltd.; and Liberty Global Logistics LLC.

Filing Party: John P. Meade, Esq.; General Counsel; K- Line America, Inc.; 6199 Bethlehem Road, Preston, MD 21655.

Synopsis: The agreement would authorize the parties to discuss non-rate operational matters worldwide.

By Order of the Federal Maritime Commission.
Dated: January 15, 2016.
Rachel E. Dickon,
Assistant Secretary.

[FR Doc. 2016-01160 Filed 1-20-16; 8:45 am]

BILLING CODE P